FEDERAL RETIREMENT THRIFT INVESTMENT BOARD

Sunshine Act Meeting

Time and Date: 10 a.m. (EDT); correction, August 18, 2003.

Place: 4th Floor, Conference Room, 1250 H Street, NW., Washington, DC.

AGENCY: Federal Retirement Thrift Investment Board.

ACTION: Notice; correction.

SUMMARY: The Federal Retirement Thrift Investment Board published a notice in the Federal Register on Monday, August 11, 2003, concerning upcoming Board member meeting.

Correction

In the Federal Register of Monday, August 11, 2003, Vol. 68, No. 154, page 47566, first column, change the time caption to read:

10 a.m.

FOR FURTHER INFORMATION CONTACT: Thomas J. Trabucco, Director, Office of External Affairs, (202) 942-1640.

Dated: August 11, 2003.
Elizabeth S. Woodruff,
Secretary to the Board, Federal Retirement Thrift Investment Board.

[FR Doc. 03-20864 Filed 8-12-03; 11:40 am]

BILLING CODE 6760-01-M